INTERNATIONAL TRADE COMMISSION

[Investigation Nos. 701-TA-376, 377, and 379 (Final) and Investigations Nos. 731-TA-788-793 (Final) (Remand)]

Certain Stainless Steel Plate from Belgium, Canada, Italy, Korea, South Africa, and Taiwan; Amended Notice and Scheduling of Remand Proceedings

AGENCY: International Trade Commission.

ACTION: Correction notice for the subject investigation.

SUMMARY: On July 29, 2002, the Commission published in the Federal Register (67 FR 145) an amended notice of investigation on Certain Stainless Steel Plate from Belgium, Canada, Italy, Korea, South Africa, and Taiwan, Nos. 701-TA-376, 377 and 379 (Final) and 731-TA-788-793 (Final). The document was published incorrectly and this notice replaces the previous published document. The U.S. International Trade Commission (the Commission) hereby gives notice of its amended schedule in the court-ordered remand of its final antidumping and countervailing duty investigations, Certain Stainless Steel Plate from Belgium, Canada, Italy, Korea, South Africa, and Taiwan, Nos. 701-TA-376, 377 and 379 (Final) and 731-TA-788-793 (Final).

EFFECTIVE DATE: July 23, 2002.

FOR FURTHER INFORMATION CONTACT: Woodley Timberlake, Office of Investigations, telephone 202-205-3188 or Neal J. Reynolds, Office of General Counsel, telephone 202-205-3093, U.S. International Trade Commission. Hearing-impaired individuals are advised that information on this matter can be obtained by contacting the Commission's TDD terminal on 202-205-1810. General information concerning the Commission may also be obtained by accessing its Internet server (http://www.usitc.gov).

SUPPLEMENTARY INFORMATION:

Background

In May 1998, the Commission determined, by a four-to-two vote, that an industry in the United States was not being materially injured or threatened with material injury by reason of imports of cold-rolled stainless steel plate in coils from Belgium and Canada. On August 28, 2000, the Court of International Trade affirmed this determination as being in accordance with law and supported by substantial evidence. Allegheny Ludlum Corp. v. United States, 116 F.Supp. 2d 1276 (CIT 2000). On April 19, 2002, the U.S. Court of Appeals for the Federal Circuit vacated the lower court ruling, finding that the Commission's volume and impact findings with respect to cold-rolled stainless steel plate were not in accordance with law and that its pricing finding for cold-rolled plate was unsupported by substantial evidence. Allegheny Ludlum Corp. v. United States, Appeal No. 01-1223 (April 19, 2002). On June 18, 2002, in accordance with the Federal Circuit's decision, the Court of International Trade vacated its earlier decision and remanded to the Commission its final negative determination with respect to cold-rolled stainless steel plate. In its order, the Court of International Trade remanded the determination to the Commission “for proceedings not inconsistent with the Federal Circuit's decision in Appeal No. 01-1223.” It also directed the Commission to issue a remand determination within sixty days of the date of the order, i.e., by August 19, 2002. On July 8, 2002, the Commission published its schedule for the remand proceeding in the Federal Register. 67 FR 47147.

On July 10, 2002, the Commission filed a motion with the Court of International Trade requesting an extension of the deadline for filing the remand determination until September 27, 2002. On July 15, 2002, the Court granted the Commission's request. Accordingly, the Commission is amending the schedule of its remand proceeding to reflect the Court's order. Any deadlines not specified below remain unchanged from the Commission's original notice.

Scheduling the Vote

The Commission will vote on the remand determination at a public meeting to be held on Thursday, September 12, 2002. The meeting is tentatively scheduled for 2:00 p.m.

Written Submissions

Each party who is an interested party in this remand proceeding may submit a written brief to the Commission. The brief must be concise and be limited to comments on how the data obtained in this remand proceeding affect the Commission's original determination with respect to cold-rolled stainless steel plate products. Any material in the comments not addressing this limited issue will be stricken from the record. The brief must be double-spaced, single-sided, and on stationary measuring 8½ by 11 inches. The brief will be limited to thirty (30) pages, and must be filed no later than the close of business on August 23, 2002.

Each party who is an interested party may also a submit a rebuttal brief to the Commission. The brief must be concise and limited to rebutting or commenting on the arguments made or facts presented by other parties in their initial brief. Any material in the comments not addressing these issues will be stricken from the record. The brief must be double-spaced, single-sided, and on stationary measuring 8½ by 11 inches. The rebuttal brief will be limited to ten (10) pages, and must be filed no later than the close of business on August 30, 2002.

All written submissions must conform with the provisions of section 201.8 of the Commission's rules; any submissions that contain business proprietary information (BPI) must also conform with the requirements of sections 201.6, 207.3, and 207.7 of the Commission's rules. In accordance with sections 3201.16(c) and 207.3 of the rules, each document filed by a party to the investigation must be served on all other parties to the investigation (as identified by either the public or BPI service list), and a certificate of service must be timely filed. The Secretary will not accept a document for filing without a certificate of service.

Authority: This action is taken under the authority of the Tariff Act of 1930, title VII.

By order of the Commission.
Issued: August 2, 2002.
Marilyn R. Abbott,
Secretary to the Commission.

[FR Doc. 02-19973 Filed 8-5-02; 8:45 am]

BILLING CODE 7020-02-P